DEPARTMENT OF DEFENSE

Office of the Secretary

[Transmittal No. 16-79]

36(b)(1) Arms Sales Notification

AGENCY: Defense Security Cooperation Agency, Department of Defense.

ACTION: Notice.

SUMMARY: The Department of Defense is publishing the unclassified text of a section 36(b)(1) arms sales notification. This is published to fulfill the requirements of section 155 of Public Law 104-164 dated July 21, 1996.

FOR FURTHER INFORMATION CONTACT: Pamela Young, DSCA/SA&E-RAN, (703) 697-9107.

The following is a copy of a letter to the Speaker of the House of Representatives, Transmittal 16-79 with attached Policy Justification and Sensitivity of Technology.

Dated: February 6, 2017.
Aaron Siegel,
Alternate OSD Federal Register Liaison Officer, Department of Defense.

BILLING CODE 5001-06-P

BILLING CODE 5001-06-C

Transmittal No. 16-79

Notice of Proposed Issuance of Letter of Offer Pursuant to Section 36(b)(1) of the Arms Export Control Act, as amended

(i) Prospective Purchaser: Government of Kenya

(ii) Total Estimated Value:

Major Defense Equipment | $ 53.6 million
Other | $364.4 million
Total | $418.0 million

(iii) Description and Quantity or Quantities of Articles or Services under Consideration for Purchase:

Major Defense Equipment (MDE):

Components for Paveway II (GBU-12/58) (includes spares):

Two hundred and twenty-two (222) MXU-1006/B Airfoil Groups for GBU-58

One hundred and fourteen (114) MXU-650 Airfoil Groups for GBU-12

Three hundred and twenty-four (324) MAU-169 L/B or MAU-209 C/B CCGs for GBU-12/58

Three hundred and twenty-four (324) FMU-152 Fuzes for GBU-12/58

Two hundred and sixteen (216) MK-81 Bomb Bodies for GBU-58

One hundred and eight (108) MK-82/BLU-111 Bomb Bodies for GBU-12

Components for Advanced Precision Kill Weapon System (APKWS) (includes spares):

Seven hundred and fourteen (714) WGU-59/B APKWS Guidance Sections

Non-MDE includes:

Twelve (12) Air Tractor AT-802L aircraft; two (2) Air Tractor AT-504 trainer aircraft; twelve (12) FMU-152 A (D-2/D-5)/B Fuzes (for Training/Inert); six (6) Mk-81 Trainer/Inert Bomb Bodies; six (6) Mk-82 Trainer/Inert Bomb Bodies; Seven hundred and fourteen (714) MK-66 MOD 4 2.75″ Rocket Motors; Seven hundred and fourteen (714) M152 HE Warheads (2.75″ Airborne Rocket); 505,000 rounds .50 cal ammunition; FN HMP400 LLC Herstal 50 cal guns; MX-15HDi electro-optical/infrared (EO/IR) full motion video cameras with laser designation; VHF/UHF radios; LAU-131 Launchers; AAR-47 Warning Systems; electro countermeasure display systems AN/ALE-47; HGU-55/P Helmet Mounted Cueing Systems; spare engines; initial spare parts; support equipment; studies; contract logistics support and technical services; publications; aircraft ferry and support; life support equipment; maintenance training; pilot training; follow-on training; alternate mission equipment; U.S. Government manpower services and travel; modifications and engineering change proposals; ground based training system; operational flight trainer and spares; and aircraft modification, integration, and support.

(iv) Military Department: Air Force (SAA)

(v) Prior Related Cases, if any: None

(vi) Sales Commission, Fee, etc., Paid, Offered, or Agreed to be Paid: None

(vii) Sensitivity of Technology Contained in the Defense Article or Defense Services Proposed to be Sold: See Annex Attached.

(viii) Date Report Delivered to Congress: January 18, 2017

* as defined in Section 47(6) of the Arms Export Control Act.

POLICY JUSTIFICATION

Government of Kenya—Air Tractor Aircraft with Weapons and Related Support

The Government of Kenya has requested a possible sale of up to twelve (12) Air Tractor AT-802L and two (2) AT-504 trainer aircraft, weapons package, technical support and program management. The total estimated program cost is $418 million.

This proposed sale contributes to the foreign policy and national security of the United States by improving the security of a strong regional partner who is a regional security leader undertaking critical operations against al-Shabaab and troop contributor to the African Union Mission in Somalia (AMISOM).

The proposed sale provides a needed capability in the ongoing efforts to counter al-Shabaab. The platform maximizes the Kenyan Defense Force's Close Air Support (CAS) ability because it is a short-field aircraft capable of using precision munitions and cost effective logistics and maintenance.

The proposed sale supplements Kenya's aging F-5 aircraft as it will be more fiscally efficient and able to be pre-positioned much closer to the conflict area than the F-5 fleet. The Kenyan Defense force is committed to modernizing its air fleet and is capable of absorbing these aircraft. The proposed sale of this equipment and support does not alter the basic military balance in the region.

The prime contractor will be L-3 Communications, Platform Integration Division, Waco, Texas. There are no known offset agreements proposed in connection with this potential sale.

Implementation of this proposed sale requires the assignment of at least five contractor representatives in Kenya.

There will be no adverse impact on U.S. defense readiness as a result of this proposed sale.

Transmittal No. 16-79

Notice of Proposed Issuance of Letter of Offer Pursuant to Section 36(b)(l) of the Arms Export Control Act

Annex

Item No. vii

(vii) Sensitivity of Technology:

1. This sale involves the release of sensitive technology to Kenya. The AT-802L weapons system is classified up to Secret. The AT-802L aircraft uses the AT-802 airframe and features avionics and other technologically sensitive systems. The AT-802L contains an MX-15HDi electro-optical/infrared (EO/IR) full motion video (FMV) cameras with laser designation; internal and external self-protection equipment; a modified HGU-55/P helmet that incorporates a reticle-projected HeadsUp Display to cue weapons and aircraft sensors to ground targets; and software computer programs.

2. Sensitive and classified (up to SECRET) elements of the proposed AT-802L include the hardware, accessories, components, and associated software associated with the: MX-15HDi EO/IR FMV turret, Stores Management System (SMS), Missile Warning System (MWS), HGU-55/P Helmet Mounted Cueing System (HMCS), and air-to-ground weapons. Additional sensitive areas include operating manuals and maintenance technical orders containing performance information, operating and test procedures, and other information related to support operations and repair. The hardware, software, and data identified are classified to protect vulnerabilities, design and performance parameters, and other similar critical information.

3. The MX-15HDi is an EO/IR FMV camera that includes a laser designator which creates the ability to designate ground targets for use with laser guided weapons. The commercially developed system software and hardware are UNCLASSIFIED.

4. The SMS provides basic flight path guidance to release zone, mission recording and diagnostics, and continuous stores status and inventory management. It is an internally mounted suite. The commercially developed system software and hardware are UNCLASSIFIED.

5. The AN/AAR-47 is an electronic warfare system used to protect against IR guided missile threats, laser-guided/laser-aided threats, and unguided munitions. The system, hardware components and software are SECRET.

6. The AN/ALE-47 system uses information from missile warning sensors to determine the correct response to defeat IR and other guided missiles. The AN/ALE-47 is SECRET.

7. HMCS is a modified HGU-55/P helmet that incorporates a reticle-projected Heads-Up Display to assist with cueing weapons to ground targets. This system projects visual targeting information, enabling the pilot to monitor this information without interrupting his field of view through the cockpit canopy. This provides improvement for close combat targeting and engagement. Hardware is UNCLASSIFIED.

8. The following munitions are part of the AT-802L configuration:

a. The Advanced Precision Kill Weapon System (APKWS) is a low cost semi- active laser guidance kit developed by BAE Systems which is added to current unguided 70 mm rocket motors and warheads similar to and including the HYDRA 70 rocket. It is a low collateral damage weapon that can effectively strike both soft and lightly armored targets. APKWS turns a standard unguided 2.75 inch (70 mm) rocket into a precision laser-guided rocket, classification up to SECRET.

b. The LAU-131 launcher is tube shaped, 59.8 inches in length, and 10.125 inches in diameter. It weighs 65 pounds and is capable of carrying seven rockets (2.75 in or 70mm). Hardware is UNCLASSIFIED. Technical data and documentation provided are UNCLASSIFIED.

c. GBU-12/58 Paveway II (PW-II): 500-lb (GBU-12) and 250-lb (GBU-58) are laser-guided ballistic bombs (LGBs) developed by Raytheon and Lockheed Martin. The LGB is a maneuverable, free-fall weapon that guides to a spot of laser energy reflected off of the target. The LGB is delivered like a normal general purpose (GP) warhead and the semi-active guidance corrects for many of the normal errors inherent in any delivery system. Laser designation for the weapon can be provided by a variety of laser target markers or designators. The LGB consists of a computer control group (CCG) that is not warhead specific (MAU-169UB or MAU-209C/B) and a warhead specific Air Foil Group (AFG), that attach to the nose and tail of MK 81 and MK 82 or BLU-111 and BLU-110 General Purpose (GP) bomb bodies. The overall weapon is CONFIDENTIAL.

d. The FN HMP400 LCC is a self-contained airborne weapon system that includes a Herstal .50 cal M3P machine gun and 250-round ammunition box. This system is UNCLASSIFIED.

9. Kenya has expressed a willingness to protect United States classified military information equivalent to US Government standards. Kenya is firmly committed to its relationship with the United States and to its promise to protect classified information and prevent its transfer to a third party. This sale is needed in furtherance of USG foreign policy and national security interests by helping to improve the security of a vital partner in the AFRICOM AOR.

10. If a technologically advanced adversary were to obtain knowledge of the specific hardware or software source code in this proposed sale, the information could be used to develop countermeasures which might reduce weapon system effectiveness or be used in the development of systems with similar or advance capabilities. The benefits to be derived from this sale in the furtherance of the US foreign policy and national security objectives, as outlined in the Policy Justification, outweigh the potential damage that could result if the sensitive technology were revealed to unauthorized persons.

11. All defense articles and services listed in this transmittal have been authorized for release and export to Kenya.

[FR Doc. 2017-02728 Filed 2-9-17; 8:45 am]

BILLING CODE 5001-06-P